DEPARTMENT OF AGRICULTURE

Forest Service

Chequamegon-Nicolet National Forest, Wisconsin, Lakewood Southeast Project

AGENCY: Forest Service, USDA.

ACTION: Notice of intent to prepare an environmental impact statement.

SUMMARY: The Forest Service will prepare an environmental impact statement (EIS) to document the analysis and disclose the environmental impacts of proposed land management activities and corresponding alternatives within the Lakewood Southeast Project. The purpose of the Lakewood Southeast Project is to implement land management activities that are consistent with direction in the Chequamegon-Nicolet National Forest 2004 Land and Resource Management Plan and respond to the specific needs identified in the project area. The project-specific needs include: Reintroduction of natural regimes, wildlife habitat and stream bank improvement, forest age, forest composition, and stocking.

DATES: Comments concerning the scope of the analysis must be received by May 9, 2011 in order to be useful in preparation of the draft statement. The draft environmental impact statement is expected in May 2011 and the final environmental impact statement is expected August 2011.

ADDRESSES: Send written comments concerning this proposal to Marilee Houtler, Attn: Lakewood Southeast Project, Lakewood-Laona Ranger District, 15085 State Road 32, Lakewood, WI 54138. Comments may also be sent via e-mail to comments-eastern-chequamegon-nicolet-lakewood@fs.fed.us, or via facsimile to 715-276-3594. Comments received in response to this solicitation, including names and addresses of those who comment, will be part of the public record for this proposed action. Comments submitted anonymously will be accepted and considered; however, anonymous comments will not provide the Agency with the ability to provide the respondent with subsequent environmental documents.

FOR FURTHER INFORMATION CONTACT: Marilee Houtler, NEPA Coordinator at the above address or by phone at 715-276-6333.

Individuals who use telecommunication devices for the deaf (TDD) may call the Federal Information Relay Service (FIRS) at 1-800-877-8339 between 8 a.m. and 8 p.m., Eastern Time, Monday through Friday.

SUPPLEMENTARY INFORMATION: The information presented in this notice is included to help the reviewer determine if they are interested in or potentially affected by the proposed land management activities. The information presented in this notice is summarized. Those who wish to provide comments, or are otherwise interested in or affected by the project, are encouraged to obtain additional information from the contact listed above.

Purpose and Need for Action

The current conditions of many forest stands in the project area vary from desired conditions in the Chequamegon-Nicolet National Forest 2004 Land and Resource Management Plan (forest plan). Our information shows some of the more notable gaps between the existing and desired future conditions by management area. Of primary importance is the need for change in: (1) Loss of natural regimes (2) wildlife habitat (3) stream improvement (4) species age structure (5) species composition and (6) stocking densities. The dominant habitat in the Lakewood Southeast Project area is upland conifer forests mixed with other forest communities.

Preliminary analysis of the project area indicates that there are certain conditions that warrant action to accomplish the direction and desired conditions identified in the forest plan.

Proposed Action

Projected project implementation would be spring of 2012. Lakewood Southeast Project is located on National Forest System lands, administered by the Lakewood-Laona Ranger District, east of Mountain, WI. The legal description of the project is Township 31-32 North, Range 17 East. The Forest Service proposes to reintroduce natural regimes in the Northern dry forests and Pine Barrens (mainly fire), improve wildlife habitat (manage openings, improve habitat for Regional Forester Sensitive Species) and stream corridors (adding long lived species), and use timber harvest (selection, clearcut, shelterwood, and thinning) to move toward desired conditions in the forest plan.

Responsible Official

The responsible official for this project is Lakewood-Laona District Ranger, Chequamegon-Nicolet National Forest.

Nature of Decision To Be Made

Decision making will be limited to specific activities relating to the proposed actions. The primary decision to be made will be whether or not to implement the proposed action, no action, another action alternative, or parts of alternatives that respond to the project's purpose and need. This decision would be documented in a record of decision.

Scoping Process

This notice of intent initiates the scoping process, which guides the development of the EIS. The 45-day comment period will start after the publication in the Federal Register of the Notice of Availability for the Lakewood Southeast Project Draft EIS. It is important that reviewers provide their comments at such times and in such manner that they are useful to the Agency's preparation of the EIS. Therefore, comments should be provided prior to the close of the comment period and should clearly articulate the reviewer's concerns and contentions. The submission of timely and specific comments can affect a reviewer's ability to participate in subsequent administrative appeal or judicial review.

March 21, 2011.
Paul I.V. Strong,
Forest Supervisor.

[FR Doc. 2011-8270 Filed 4-6-11; 8:45 am]

BILLING CODE 3410-11-P